DEPARTMENT OF TRANSPORTATION

Research and Special Programs Administration

49 CFR Part 178

[Docket No. RSPA-99-5921 (HM-213A)]

RIN 2137-AD34

Hazardous Materials: Cargo Tank Rollover Damage Protection Requirements; Withdrawal of Advance Notice of Proposed Rulemaking

AGENCY: Research and Special Programs Administration (RSPA), DOT.

ACTION: Advance notice of proposed rulemaking; withdrawal and termination of rulemaking.

SUMMARY: RSPA is withdrawing an advance notice of proposed rulemaking (ANPRM) published on November 16, 1999, that requested comments on a research study conducted by the University of Michigan Transportation Research Institute (UMTRI) titled “The Dynamics of Tank-Vehicle Rollover and the Implications for Rollover-Protection Devices.” Since publication of the ANPRM, RSPA and the Federal Motor Carrier Safety Administration (FMCSA) have determined that additional study is necessary.

FOR FURTHER INFORMATION CONTACT: Mr. Michael Stevens, Office of Hazardous Materials Standards, Research and Special Programs Administration, 202-366-8553 or Mr. Danny Shelton, Hazardous Materials Division, Federal Motor Carrier Safety Administration, 202-366-6121.

SUPPLEMENTARY INFORMATION: In 1991, the National Transportation Safety Board (NTSB) investigated seven accidents involving cargo tank motor vehicles (CTMVs) of various DOT specifications used for liquid hazardous materials. All of the incidents investigated resulted in rollover of the CTMV and a release of hazardous materials. As a result of the investigation, NTSB published a Hazardous Materials Special Investigation Report on February 2, 1992. In its report, NTSB concluded that in all cases the CTMV rollover protection devices failed to protect the cargo tank manholes and fittings from damage.

On February 4, 1992, NTSB released safety recommendation H-92-10, recommending, in part, that the Research and Special Programs Administration (RSPA; we) and the Federal Highway Administration (FHWA), the predecessor agency to the Federal Motor Carrier Safety Administration (FMCSA), conduct a study to model and analyze the forces and energy involved in CTMV rollover incidents. In addition, in H-92-2, NTSB recommended that RSPA assist FHWA to improve the performance of rollover protection devices by promulgating performance standards to consider those forces identified in the study as acting on the devices during a rollover accident. In response to safety recommendation H-92-10, FHWA contracted with UMTRI to conduct a study of CTMV rollover incidents.

In November 1998, UMTRI released its study, titled “The Dynamics of Tank-Vehicle Rollover and the Implications for Rollover-Protection Devices.” The study examined 882 simulated rollover incidents involving various DOT specification CTMVs and configurations (MC 306, MC 307, MC 312). The simulated rollover incidents were influenced by the accidents investigated by NTSB and included mild, moderate, and severe rollover crash events.

On November 16, 1999, RSPA published an ANPRM (64 FR 62161) that solicited comments and other supporting data from industry related to the issues of concern in the UMTRI study. The ANPRM asked a series of seventeen questions concerning issues ranging from rollover dynamics to benefit-cost estimates. In addition, the ANPRM asked whether the UMTRI study recommendations were feasible, noting a potential ten-fold increase in costs when compared to current regulatory requirements for rollover protection.

In response to the ANPRM, we received twenty-five comments, eight of which were within the scope of the rulemaking. The comments received were generally negative, and all included similar conclusions regarding cost, efficacy, and feasibility. In addition, commenters stated that there was insufficient evidence to support any major revision of the current overturn protection requirements.

In response to comments received to the ANPRM, FMCSA contracted with Battelle in CY 2001 for an independent analysis of the original UMTRI CTMV rollover study. This study is scheduled for completion in CY 2006. Because of the extended period expected for completing the study and evaluating the findings, we are terminating further rulemaking action under this docket. The termination of this rulemaking action does not preclude our addressing the NTSB recommendations under another docket.

Upon completion of the FMCSA study, RSPA and FMCSA will evaluate the findings and open a new rulemaking docket to solicit industry comments and consider proposals to revise current rollover protection requirements. Accordingly, Docket No. RSPA-99-5921 (HM-213A) is hereby withdrawn.

Issued in Washington, DC on May 5, 2004, under authority delegated in 49 CFR Part 106.
Robert A. McGuire,
Associate Administrator for Hazardous Materials Safety.

[FR Doc. 04-10819 Filed 5-12-04; 8:45 am]

BILLING CODE 4910-60-P